DEPARTMENT OF ENERGY

Federal Energy Regulatory Commission

Combined Notice of Filings #1

March 12, 2008.

Take notice that the Commission received the following electric corporate filings:

Docket Numbers: EC08-36-001.

Applicants: Consolidated Edison Development, Inc.; CED/SCS Newington, LLC; North American Energy Alliance, LLC.

Description: Consolidated Edison Development, Inc et al submits response to the 3/3/08 deficiency letter, updated of certain information provided in the 1/9/08 filed application with regard to purchasers.

Filed Date: 03/10/2008.

Accession Number: 20080312-0128.

Comment Date: 5 p.m. Eastern Time on Monday, March 17, 2008.

Docket Numbers: EC08-52-000.

Applicants: Noble Thumb Windpark, LLC; Noble Thumb Windpark I, LLC; Babcock & Brown Renewable Holdings Inc.

Description: Noble Thumb Windpark, LLC and Noble Thumb Windpark I, LLC et al submits the Joint Application for authorization for the sale by Noble Thumb and acquisition by BBRH of 100% membership interests and requests for waivers of filing requirements.

Filed Date: 03/06/2008.

Accession Number: 20080311-0175.

Comment Date: 5 p.m. Eastern Time on Thursday, March 27, 2008.

Take notice that the Commission received the following electric rate filings:

Docket Numbers: ER04-230-033; ER01-3155-023; ER01-1385-032; EL01-45-031.

Applicants: New York Independent System Operator, Inc.

Description: NYISO's 13th quarterly report regarding progress to resolve the issue of penalty exemptions for grouped generating facilities whose output is metered at a single location during start-up and shutdown periods.

Filed Date: 02/29/2008.

Accession Number: 20080229-5018.

Comment Date: 5 p.m. Eastern Time on Friday, March 21, 2008.

Docket Numbers: ER07-1071-004; ER07-1072-004.

Applicants: PJM Interconnection L.L.C.

Description: Refund Report of PJM Interconnection, L.L.C. and Virginia Electric and Power Company.

Filed Date: 03/10/2008.

Accession Number: 20080310-5041.

Comment Date: 5 p.m. Eastern Time on Monday, March 31, 2008.

Docket Numbers: ER08-649-000.

Applicants: EFS Parlin Holdings LLC.

Description: EFS Parlin Holdings LLC's application for Market-Based Rate Authority Request for Waivers and Pre-Approvals, and Request for Finding of Qualifications as Category 1 Seller.

Filed Date: 03/10/2008.

Accession Number: 20080311-0399.

Comment Date: 5 p.m. Eastern Time on Monday, March 31, 2008.

Take notice that the Commission received the following electric securities filings:

Docket Numbers: ES08-29-001.

Applicants: Entergy Services, Inc.

Description: Supplement to Joint Application of Entergy Services, Inc., et al.

Filed Date: 03/12/2008.

Accession Number: 20080312-5023.

Comment Date: 5 p.m. Eastern Time on Friday, March 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-5535 Filed 3-18-08; 8:45 am]

BILLING CODE 6717-01-P